DEPARTMENT OF ENERGY

Federal Energy Regulatory Commission

Combined Notice of Filings #1

Take notice that the Commission received the following exempt wholesale generator filings:

Docket Numbers: EG20-48-000.

Applicants: Little Bear Solar 1, LLC.

Description: Notice of Self-Certification of Exempt Wholesale Generator Status of Little Bear Solar 1, LLC under EG20-48.

Filed Date: 11/26/19.

Accession Number: 20191126-5204.

Comments Due: 5 p.m. ET 12/17/19.

Docket Numbers: EG20-49-000.

Applicants: Little Bear Solar 3, LLC.

Description: Notice of Self-Certification of Exempt Wholesale Generator Status of Little Bear Solar 3, LLC under EG20-49.

Filed Date: 11/26/19.

Accession Number: 20191126-5209.

Comments Due: 5 p.m. ET 12/17/19.

Docket Numbers: EG20-50-000.

Applicants: Little Bear Solar 4, LLC.

Description: Notice of Self-Certification of Exempt Wholesale Generator Status of Little Bear Solar 4, LLC under EG20-50.

Filed Date: 11/26/19.

Accession Number: 20191126-5210.

Comments Due: 5 p.m. ET 12/17/19.

Docket Numbers: EG20-51-000.

Applicants: Little Bear Solar 5, LLC.

Description: Notice of Self-Certification of Exempt Wholesale Generator Status of Little Bear Solar 5, LLC under EG20-51.

Filed Date: 11/26/19.

Accession Number: 20191126-5212.

Comments Due: 5 p.m. ET 12/17/19.

Docket Numbers: EG20-52-000.

Applicants: Greenleaf Energy Unit 2 LLC.

Description: Self-Certification of EG of Greenleaf Energy Unit 2 LLC under EG20-52.

Filed Date: 11/26/19.

Accession Number: 20191126-5292.

Comments Due: 5 p.m. ET 12/17/19.

Docket Numbers: EG20-53-000.

Applicants: Golden Fields Solar II, LLC.

Description: Notice Self-Certification of Exempt Wholesale Generator Status.

Filed Date: 11/27/19.

Accession Number: 20191127-5074.

Comments Due: 5 p.m. ET 12/18/19.

Docket Numbers: EG20-54-000.

Applicants: Golden Fields Solar III, LLC.

Description: Notice Self-Certification of Exempt Wholesale Generator Status.

Filed Date: 11/27/19.

Accession Number: 20191127-5075.

Comments Due: 5 p.m. ET 12/18/19.

Docket Numbers: EG20-55-000.

Applicants: Golden Fields Solar IV, LLC.

Description: Notice Self-Certification of Exempt Wholesale Generator Status.

Filed Date: 11/27/19.

Accession Number: 20191127-5077.

Comments Due: 5 p.m. ET 12/18/19.

Take notice that the Commission received the following electric rate filings:

Docket Numbers: ER19-158-003.

Applicants: Ambit Northeast, LLC.

Description: Notice of Change in Status of Ambit Northeast, LLC.

Filed Date: 11/27/19.

Accession Number: 20191127-5151.

Comments Due: 5 p.m. ET 12/18/19.

Docket Numbers: ER19-2276-002.

Applicants: New York Independent System Operator, Inc.

Description: Tariff Amendment: Response to Second Deficiency Letter—DERs to be effective 12/31/9998.

Filed Date: 11/26/19.

Accession Number: 20191126-5207.

Comments Due: 5 p.m. ET 12/17/19.

Docket Numbers: ER20-482-000.

Applicants: Little Bear Solar 4, LLC.

Description: Baseline eTariff Filing: MBR Application and Request for Expedited Treatment to be effective 1/10/2020.

Filed Date: 11/26/19.

Accession Number: 20191126-5271.

Comments Due: 5 p.m. ET 12/17/19.

Docket Numbers: ER20-483-000.

Applicants: New York Independent System Operator, Inc.

Description: § 205(d) Rate Filing: 205 re: Enhanced Credit Reporting Requirements and Remedies to be effective 1/27/2020.

Filed Date: 11/26/19.

Accession Number: 20191126-5272.

Comments Due: 5 p.m. ET 12/17/19.

Docket Numbers: ER20-484-000.

Applicants: Little Bear Solar 5, LLC.

Description: Baseline eTariff Filing: MBR Application and Request for Expedited Treatment to be effective 1/10/2020.

Filed Date: 11/26/19.

Accession Number: 20191126-5276.

Comments Due: 5 p.m. ET 12/17/19.

Docket Numbers: ER20-485-000.

Applicants: Midcontinent Independent System Operator, Inc. Ameren Transmission Company of Illinois, Wabash Valley Power Association, Inc.

Description: § 205(d) Rate Filing: 2019-11-27_Rate Schedule 54 AMMO-ATXI-Wabash JPZ Revenue Allocation Agreement to be effective 1/1/2020.

Filed Date: 11/27/19.

Accession Number: 20191127-5037.

Comments Due: 5 p.m. ET 12/18/19.

Docket Numbers: ER20-486-000.

Applicants: Golden Fields Solar III, LLC.

Description: § 205(d) Rate Filing: Application for Market-Based Rate Authorization and Request for Waivers to be effective 11/28/2019.

Filed Date: 11/27/19.

Accession Number: 20191127-5050.

Comments Due: 5 p.m. ET 12/18/19.

Docket Numbers: ER20-487-000.

Applicants: PJM Interconnection, L.L.C.

Description: Tariff Cancellation: Notice of Cancellation of WMPA SA No. 5418; Queue No. AD2-049 to be effective 12/19/2019.

Filed Date: 11/27/19.

Accession Number: 20191127-5054.

Comments Due: 5 p.m. ET 12/18/19.

Docket Numbers: ER20-488-000.

Applicants: ISO New England Inc., New England Power Pool Participants Committee.

Description: Installed Capacity Requirements, Hydro-Quebec Interconnection Capability Credits and Related Values for 2020/2021, 2021/2022 and 2022/2023 Annual Reconfiguration Auctions of ISO New England, Inc., et al.

Filed Date: 11/27/19.

Accession Number: 20191127-5070.

Comments Due: 5 p.m. ET 12/18/19.

Docket Numbers: ER20-489-000.

Applicants: Duke Energy Progress, LLC.

Description: § 205(d) Rate Filing: DEP-Fayetteville Public Works Commission PPSCA (Rate Schedule No. 184) Amendment to be effective 2/1/2020.

Filed Date: 11/27/19.

Accession Number: 20191127-5118.

Comments Due: 5 p.m. ET 12/18/19.

Docket Numbers: ER20-490-000.

Applicants: Hickory Run Energy, LLC.

Description: Initial rate filing: Reactive Power Tariff Filing to be effective 12/31/9998.

Filed Date: 11/27/19.

Accession Number: 20191127-5156.

Comments Due: 5 p.m. ET 12/18/19.

Take notice that the Commission received the following electric reliability filings:

Docket Numbers: RR20-1-000.

Applicants: North American Electric Reliability Corporation.

Description: Joint Petition of the North American Electric Reliability Corporation and ReliabilityFirst Corporation for Approval of Amendments to ReliabilityFirst Corporation's Bylaws.

Filed Date: 11/27/19.

Accession Number: 20191127-5030.

Comments Due: 5 p.m. ET 12/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2019.
Nathaniel J. Davis, Sr.,
Deputy Secretary.

[FR Doc. 2019-26200 Filed 12-3-19; 8:45 am]

BILLING CODE 6717-01-P